DEPARTMENT OF HOMELAND SECURITY

[Docket No. DHS-2018-0076]

Homeland Security Advisory Council

AGENCY: Office of Partnership and Engagement (OPE), Department of Homeland Security (DHS).

ACTION: Notice of open teleconference federal advisory committee meeting; cancellation.

SUMMARY: On December 27, 2018 (83 FR 66724-66725) the Department of Homeland Security (DHS) published a notice announcing that a meeting of the Homeland Security Advisory Council (HSAC) was to take place on Thursday, January 31, 2019 via teleconference. Due to the lapse in appropriations for the Department of Homeland Security, DHS is cancelling the January 31, 2019 meeting.

FOR FURTHER INFORMATION CONTACT: Mike Miron at HSAC@hq.dhs.gov or 202-447-3135.

SUPPLEMENTARY INFORMATION: None.

Dated: January 23, 2019.
Matthew Hayden,
Deputy Assistant Secretary, Private Sector Office.

[FR Doc. 2019-00258 Filed 1-28-19; 8:45 am]

BILLING CODE 9110-9B-P